DEPARTMENT OF ENERGY

Federal Energy Regulatory Commission

[Docket Nos. CP15-490-000; CP15-490-001; CP16-20-000]

Delfin LNG LLC; Notice of Request for Extension of Time

Take notice that on June 25, 2020, Delfin LNG LLC (Delfin) requested that the Federal Energy Regulatory Commission (Commission) grant an extension of time, until September 28, 2021, to construct and place into service the facilities that were authorized in the original certificate authorization issued on September 28, 2017 (Certificate Order). The Certificate Order authorized certain onshore facilities that would be used exclusively to transport natural gas to Delfin LNG's deepwater port “offshore facilities” (collectively, the Project) in federal waters offshore Louisiana. The onshore facilities would be used to meet the requirements of the customers of the offshore facilities. The Certificate Order required Delfin to construct and place the facilities in service by September 28, 2019.

Delfin states that on June 21, 2019 it requested an extension of time until March 28, 2023 to complete the construction of the onshore facilities in conjunction with construction of the offshore facilities. Delfin states that on July 8, 2019, the Commission's Office of Energy Projects granted an extension of time until September 28, 2020 to construct the onshore facilities and make them available for service. (2019 Extension)

Delfin asserts that since the 2019 Extension, it has been working to develop the Project. However, Delfin states that due to the global coronavirus pandemic, U.S. trade disputes with China, and the drop in global oil prices, it has been difficult to conclude LNG offtake agreements. Delfin states that it continues to negotiate LNG offtake agreements and development of the Project. Accordingly, applicants request an extension of time until September 28, 2021 to complete construction of the onshore facilities and place them into service.

This notice establishes a 15-calendar day intervention and comment period deadline. Any person wishing to comment on Delfin's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).¹

¹ Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act.⁵ At the time a pipeline requests an extension of time, orders on certificates of public convenience and necessity are final and the Commission will not re-litigate their issuance.⁶ The OEP Director, or his or her designee, will act on all of those extension requests that are uncontested.

² Contested proceedings are those where an intervenor disputes any material issue of the filing. 18 CFR 385.2201(c)(1) (2019).

³ Algonquin Gas Transmission, LLC, 170 FERC 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC 61,144, at P 40 (2020).

In addition to publishing the full text of this document in the Federal Register, The Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the eFiling link at http://www.ferc.gov. Persons unable to file electronically should submit an original and three copies of the protest or intervention to the Federal Energy Regulatory Commission, 888 First Street NE, Washington, DC 20426.

Comment Date: 5:00 p.m. Eastern Time on, July 13, 2020.

Dated: June 26, 2020.
Nathaniel J. Davis, Sr.,
Deputy Secretary.

[FR Doc. 2020-14281 Filed 7-1-20; 8:45 am]

BILLING CODE 6717-01-P